DEPARTMENT OF HOUSING AND URBAN DEVELOPMENT

[Docket No. FR-4529-N-03]

Notice of Proposed Information; Collection: Comment Request; Applicant/Recipient Disclosure/Update Report—HUD 2880

AGENCY: Office of the General Counsel, HUD.

ACTION: Notice.

SUMMARY: The proposed information collection requirement described below will be submitted to the Office of Management and Budget (OMB) for review, as required by the Paperwork Reduction Act. The Department is soliciting public comments on the subject proposal.

DATES: Comments Due Date: April 1, 2003.

ADDRESSES: Interested persons are invited to submit comments regarding this proposal. Comments should refer to the proposal by name and/or OMB Control Number and should be sent to: Patricia A. Wash, Reports Liaison Officer, Department of Housing and Urban Development, 451 7th Street, SW., Room 10245, Washington, DC 20410.

FOR FURTHER INFORMATION CONTACT: Paula A. Lincoln, Assistant General Counsel, Ethics Law Division, Office of General Counsel, Department of Housing and Urban Development, 451 7th Street, SW., Room 2130, Washington, DC 20410 telephone (202 708-3815) (this is not a toll-free number). For copies of the proposed form and other available documents.

SUPPLEMENTARY INFORMATION: The Department is submitting the proposed information collection to OMB for review, as required by the Paperwork Reduction Act of 1995 (44 U.S.C. Chapter 35, as amended).

This Notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This Notice also lists the following information:

Title of Proposal: Applicant/Recipient Disclosure/Update Report.

OMB Control Number, if applicable: 2510-0011.

Description of the need for the information and proposed use:Section 102 of The HUD Reform Act of 1989 requires the Department to ensure greater accountability and integrity in the provision of assistance administered by the Department. One feature of the statute requires certain disclosures by applicants seeking assistance from HUD. The disclosure includes the financial interests of persons involved in the activities, the sources of funds to be made available for the activities, and the proposed uses of the funds.

Each applicant who submits an application for assistance, within the jurisdiction of the Department, to HUD, to a State or to a unit of general local government for a specific project or activity, must disclose this information whenever the dollar threshold is met ($200,000 during the Fiscal Year in which the application is submitted). This information must be kept updated during the application review process and while the assistance is being provided.

Agency form numbers, if applicable: HUD-2880.

Members of affected public: Applicants for HUD competitive assistance.

Estimation of the total numbers of hours needed to prepare the information collection including number of respondents, frequency of response, and hours of response:

Number of disclosures (including updates) | Burden hours | Frequency of response | Total burden hours
16,900 | 2.0 | 1.2 | 40,560

Status of the proposed information collection: Extension of expiration date.

Authority: The Paperwork Reduction Act of 1995, 44 U.S.C. Chapter 35, as amended.

Dated: January 28, 2003.
Richard A. Hauser,
General Counsel.

[FR Doc. 03-2350 Filed 1-30-03; 8:45 am]

BILLING CODE 4210-67-P